DEPARTMENT OF ENERGY

Federal Energy Regulatory Commission

[Docket No. RP02-45-001]

Great Lakes Gas Transmission Limited Partnership; Notice of Tariff Filing

January 29, 2002.

Take notice that on January 18, 2002, Great Lakes Gas Transmission Limited Partnership (Great Lakes) tendered for filing as part of its FERC Gas Tariff, Second Revised Volume No. 1, Substitute Thirteenth Revised Sheet No. 7, proposed to be effective January 1, 2002.

Great Lakes states that the tariff sheet described above corrects an oversight made in its November 9, 2001 filing to reflect the revised funding surcharges for the Gas Research Institute for the year 2002. Specifically, the November 9 filing failed to update the GRI amounts shown in Footnote 3 of Thirteenth Revised Sheet No. 7. The November 9, 2001 filing was accepted by the Commission in its December 14, 2001 Letter Order under Docket No. RP02-45-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-2581 Filed 2-1-02; 8:45 am]

BILLING CODE 6717-01-P